FEDERAL MARITIME COMMISSION

Ocean Transportation Intermediary License Revocations and Terminations

The Commission gives notice that the following Ocean Transportation Intermediary licenses have been revoked or terminated for the reason shown pursuant to section 19 of the Shipping Act of 1984 (46 U.S.C. 40101) effective on the date shown.

License No.: 1632F.

Name: Stringfield, William M. dba William M. Stringfield Company.

Address: 249 East Ocean Blvd., Suite 108, Long Beach, CA 90802.

Date Revoked: August 1, 2013.

Reason: Failed to maintain a valid bond.

License No.: 003394F.

Name: Hartford Despatch & Warehouse Company, Inc. dba Hartford Despatch International.

Address: 225 Prospect Street, East Hartford, CT 06108.

Date Revoked: July 31, 2013.

Reason: Failed to maintain a valid bond.

License No.: 010559N.

Name: Advanced Shipping Corporation dba Star Cluster USA.

Address: 5343 West Imperial Highway, Suite 200, Los Angeles, CA 90045.

Date Revoked: July 14, 2013.

Reason: Failed to maintain a valid bond.

License No.: 12717N.

Name: GFI Express Corp.

Address: 145-18 156th Street, Room 1, Jamaica, NY 11434.

Date Revoked: July 22, 2013.

Reason: Failed to maintain a valid bond.

License No.: 16352N.

Name: Lynch International Inc.

Address: 34-37 65th Street, Woodside, NY 11377.

Date Revoked: July 25, 2013.

Reason: Failed to maintain a valid bond.

License No.: 17110NF.

Name: Proway Forwarding, Inc. dba Arrowhead Forwarding.

Address: 1111 Corporate Center Drive, Suite 103, Monterey Park, CA 91754.

Date Revoked: July 27, 2013.

Reason: Failed to maintain valid bonds.

License No.: 019929F.

Name: Intercargo Logistics Inc. dba Impex Express.

Address: 145-38 157th Street, 2nd Floor, Jamaica, NY 11434.

Date Revoked: August 29, 2013.

Reason: Voluntary Surrender of License.

License No.: 020121NF.

Name: T & M Shipping Ltd. dba 4 Oceans.

Address: 3426 Hancock Bridge Parkway, Suite 305, North Fort Myers, FL 33903.

Dates Revoked: 020121N July 11, 2013 and 020121F August 24, 2013.

Reason: Failed to maintain valid bonds.

License No.: 020241N.

Name: President Container Line, Inc.

Address: 1515 West Walnut Parkway, Suite B, Compton, CA 90220.

Date Revoked: July 22, 2013.

Reason: Failed to maintain a valid bond.

License No.: 020357N.

Name: Manuel L. Melo dba Agencia Internacional.

Address: 599 Central Street, Lowell, MA 01852.

Date Revoked: July 26, 2013.

Reason: Failed to maintain a valid bond.

License No.: 020547N.

Name: DLR International Freight Forwarders, Inc.

Address: 901 Cambridge Drive, Elk Grove Village, IL 60007.

Date Revoked: August 9, 2013.

Reason: Voluntary Surrender of License.

License No.: 021997N.

Name: Rax International, Inc.

Address: 65 Railroad Avenue, Suite 2, Ridgefield, NJ 07657.

Date Revoked: August 19, 2013.

Reason: Voluntary Surrender of License.

License No.: 021582N.

Name: PNGL (USA) Inc.

Address: 2730 Monterey Street, Suite 103, Torrance, CA 90503.

Date Revoked: August 18, 2013.

Reason: Failed to maintain a valid bond.

License No.: 021975F.

Name: Adora International LLC dba Adora.

Address: 16813 FM 1485, Conroe, TX 77306.

Date Revoked: July 18, 2013.

Reason: Failed to maintain a valid bond.

License No.: 023232N.

Name: R. N. Orane USA, LLC.

Address: 31823 Ponderosa Way, Evergreen, CO 80439.

Date Revoked: July 25, 2013.

Reason: Voluntary Surrender of License.

License No.: 023737NF.

Name: King Solutions, Inc.

Address: 11011 Holly Lane North, Dayton, MN 55369.

Date Revoked: August 13, 2013.

Reason: Voluntary Surrender of License.

License No.: 023795N.

Name: Original U.S.A. Group Corp.

Address: 145-30 156th Street, Suite 202, Jamaica, NY 11434.

Date Revoked: July 24, 2013.

Reason: Failed to maintain a valid bond.

License No.: 023989NF.

Name: A. & A. Trading, Inc.

Address: 409 Blue Bell Road, Houston, TX 77037.

Date Revoked: August 9, 2013.

Reason: Failed to maintain valid bonds.

James A. Nussbaumer,
Deputy Director, Bureau of Certification and Licensing.

[FR Doc. 2013-22812 Filed 9-18-13; 8:45 am]

BILLING CODE 6730-01-P